DEPARTMENT OF VETERANS AFFAIRS

[OMB Control No. 2900-0091]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before November 30, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0091” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0091, Application and Renewal for Health Benefits.”

SUPPLEMENTARY INFORMATION: Title: Application and Renewal for Health Benefits, VA Form 10-10EZ; 10-10EZR; 10-10HS.

Type of Review: Revision of an existing collection.

a. Abstract: Veterans complete VA Form 10-10EZ to enroll in VA health care system. VA will use the information collected to determine the veteran's eligibility for medical benefits.

b. Veterans currently enrolled in VA health care system complete VA Form 10-10EZR to update their personal information such as marital status, address, health insurance and financial information.

c. VA Form 10-10HS collects information only from veterans who are in a copay required status for hospital care and medical services, but due to a loss of income project their income for the current year will be substantially below the VA means test threshold.

An agency may not conduct or sponsor, and a person is not required to respond to a collection of information unless it displays a currently valid OMB control number. The Federal Register Notice with a 60-day comment period soliciting comments on this collection of information was published on July 2, 2013, Vol. 78, No. 127, at pages 39832-39833.

Affected Public: Individuals or households.

Estimated Annual Burden: 455,750.

Estimated Average Burden per Respondent: 26.8 minutes.

Frequency of Response: Once.

Estimated Number of Respondents: 1,017,000.

By direction of the Secretary.
Dated: October 30, 2013.
Crystal Rennie,
VA Clearance Officer, U.S. Department of Veterans Affairs.

[FR Doc. 2013-26281 Filed 11-1-13; 8:45 am]

BILLING CODE 8320-01-P